DEPARTMENT OF DEFENSE

Department of the Navy

Notice of Availability of Invention for Licensing; Government-Owned Invention

AGENCY: Department of the Navy, DOD.

ACTION: Notice.

SUMMARY: The invention listed below is assigned to the United States Government as represented by the Secretary of the Navy and are available for licensing by the Department of the Navy.

U.S. Patent Application Serial No. 09/477,941 entitled “Chemical and Biological Warfare Decontaminating solution Using Bleach Activators”, filing date: January 5, 2000, Navy Case No. 82065.

ADDRESSES: Request for copies of the patent application cited should be directed to the Naval Surface Warfare Center, Dahlgren Laboratory, Code CD222, 17320 Dahlgren Road, Building 183, Room 015, Dahlgren, VA 22448-5100, and must include the Navy Case number.

FOR FURTHER INFORMATION CONTACT: James B. Bechtel, Patent Counsel, Naval Surface Warfare Center, Dahlgren Laboratory, Code CD222, 17320 Dahlgren, Road, Building 183, Room 015, Dahlgren, VA 22448-5100, telephone (540) 633-8016.

Authority: 35 U.S.C. 207, 37 CFR Part 404.

Dated: February 7, 2000.
J.L. Roth,
Lieutenant Commander, Judge Advocate General's Corps, U.S. Navy, Federal Register Liaison Officer.

[FR Doc. 00-3946 Filed 2-17-00; 8:45 am]

BILLING CODE 3810-FF-U